SECURITIES AND EXCHANGE COMMISSION

[Release No. 34-94541; File No. SR-Phlx-2022-10]

Self-Regulatory Organizations; Nasdaq PHLX LLC; Notice of Withdrawal of Proposed Rule Changes To Amend Open Outcry Options Transaction Charges

March 29, 2022.

On March 10, 2022, Nasdaq PHLX LLC (“Phlx”) filed with the Securities and Exchange Commission (“Commission”) pursuant to Section 19(b)(1) of the Securities Exchange Act of 1934 (“Act”) ¹ and Rule 19b-4 thereunder,² a proposed rule change to increase the Floor Lead Market Maker and Floor Market Maker options transaction charge and pay a Floor Broker rebate whenever a Floor Broker executes an order contra a Floor Lead Market Maker or Floor Market Maker in certain open outcry transactions in multiply-listed Penny and non-Penny symbols. The proposed rule change was immediately effective upon filing with the Commission pursuant to Section 19(b)(3)(A) of the Act.³ The proposed rule change was published for comment in the Federal Register on March 23, 2022.⁴ On March 29, 2022, Phlx withdrew the proposed rule change (SR-Phlx-2022-10).

¹ 15 U.S.C. 78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release No. 94453 (March 17, 2022), 87 FR 16529 (March 23, 2022).

⁵ 17 CFR 200.30-3(a)(12).

For the Commission, by the Division of Trading and Markets, pursuant to delegated authority.⁵
J. Matthew DeLesDernier,
Assistant Secretary.

[FR Doc. 2022-06984 Filed 4-1-22; 8:45 am]

BILLING CODE 8011-01-P